DEPARTMENT OF TRANSPORTATION

Federal Aviation Administration

14 CFR Part 71

[Docket No. FAA-2016-9264; Airspace Docket No. 16-AWP-1]

Establishment, Modification and Revocation of Air Traffic Service (ATS) Routes; Western United States

AGENCY: Federal Aviation Administration (FAA), DOT.

ACTION: Final rule.

SUMMARY: This action modifies three jet routes and four VHF Omnidirectional Range (VOR) Federal airways; removes two VOR Federal Airway routes, and establishes four and modifies three low altitude Area Navigation (RNAV) routes (T-routes) in the western United States. The FAA is taking this action due to the scheduled decommissioning of the Manteca, CA, and Maxwell, CA, VOR facilities, which provide navigation guidance for portions of the affected routes. This action enhances the safety and management of aircraft along these routes within the National Airspace System (NAS). The VOR Federal airway, V-244, published in the notice of proposed rulemaking, requires more coordination and is not being finalized in this action.

DATES: Effective date 0901 UTC, June 22, 2017. The Director of the Federal Register approves this incorporation by reference action under Title 1, Code of Federal Regulations, part 51, subject to the annual revision of FAA, Order 7400.11 and publication of conforming amendments.

ADDRESSES: FAA Order 7400.11A, Airspace Designations and Reporting Points, and subsequent amendments can be viewed online at http://www.faa.gov/air_traffic/publications/. For further information, you can contact the Airspace Policy Group, Federal Aviation Administration, 800 Independence Avenue SW., Washington, DC 20591; telephone: (202) 267-8783. The Order is also available for inspection at the National Archives and Records Administration (NARA). For information on the availability of FAA Order 7400.11A at NARA, call (202) 741-6030, or go to http://www.archives.gov/federal_register/code_of_federal-regulations/ibr_locations.html.

FAA Order 7400.11, Airspace Designations and Reporting Points, is published yearly and effective on September 15.

FOR FURTHER INFORMATION CONTACT: Kenneth Ready, Airspace Policy Group, Office of Airspace Services, Federal Aviation Administration, 800 Independence Avenue SW., Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the air traffic service route structure in the western United States to maintain the efficient flow of air traffic.

History

On January 5, 2017, the FAA published in the Federal Register a notice of proposed rulemaking (NPRM) (82 FR 1279); Docket No. FAA-2016-9264, to amend three jet routes (J-58, J-80, J-94) and four VOR Federal airways (V-87, V-113, V-195, V-244); remove two VOR Federal airways (V-109, V-585); and establish four (T-298, T-329, T-331, and T-333) and modify four (T-257, T-259, T-261, T-263) RNAV T-routes in the western United States. Interested parties were invited to participate in this rulemaking effort by submitting written comments on the proposal. No comments were received.

Availability and Summary of Documents for Incorporation by Reference

This document amends FAA Order 7400.11A, airspace Designations and Reporting Points, dated August 3, 2016, and effective September 15, 2016. FAA Order 7400.11A is publicly available as listed in the ADDRESSES section of this document. FAA Order 7400.11A lists Class A, B, C, D, and E airspace areas, air traffic service routes, and reporting points.

Differences From the NPRM

The NPRM proposed to establish VOR Federal airway, V-244. Due to additional coordination required for low altitude routes, V-244 requires additional review and will be finalized at a later date.

The Rule

The FAA is amending Title 14 Code of Federal Regulations (14 CFR) part 71 to amend jet routes J-58, J-80, J-94, and VOR Federal airways V-87, V-113, V-195; remove VOR Federal airways V-109, V-585; establish RNAV T-routes T-298, T-329, T-331, and T-333; and modify RNAV T-routes T-257, T-259, T-261, T-263 in the western United States due to the scheduled decommissioning of the Manteca and Maxwell VOR facilities. The routes are outlined below.

J-58: J-58 currently extends between Oakland, CA (OAK) and Harvey, LA (HRV). The FAA removes the segment of the route west of Coaldale, NV (OAL) from Oakland to Coaldale via Manteca. The unaffected portion of the existing route will remain as charted.

J-80: J-80 currently extends between Oakland, CA (OAK) and Bellaire, OH (AIR). The FAA removes the segment of the route west of Coaldale, NV (OAL) from Oakland to Coaldale via Manteca. The unaffected portion of the existing route will remain as charted.

J-94: J-94 currently extends between Oakland, CA (OAK) and Flint, MI (FNT). The FAA removes the segment of the route west of Mustang, NV (FMG) from Oakland to Mustang. The unaffected portion of the existing route will remain as charted.

V-87: V-87 currently extends between Panoche, CA (PXN) and Red Bluff, CA (RBL). The FAA amends the route by ending the route at Scaggs Island, CA (SGD), eliminating the segment north of Scaggs Island, CA (SGD) to Red Bluff, CA. The unaffected portion of the existing route will remain as charted.

V-109: V-109 currently extends from Panoche, CA to Oakland CA. The FAA removes this route.

V-113: V-113 currently extends between Morro Bay, CA (MQO) and Lewistown, MT (LWT). The FAA removes the Manteca, CA segment between Panoche, CA (PXN) and Linden, CA (LIN). The unaffected portions of the existing route will remain as charted in the two remaining segments.

V-195: V-195 currently extends between Manteca, CA (ECA) and Fortuna, CA, (FOT). The FAA removes the part of the route east of Oakland, CA (OAK) from Manteca to Oakland. The unaffected portion of the existing route will remain as charted.

V-585: V-585 currently extends from Clovis, CA to Sacramento, CA. The FAA removes this route.

T-257: T-257 currently extends between Big Sur, CA (BSR) to Point Reyes, CA (PYE). The FAA amends the route from Ventura, CA (VTU) to Tatoosh, WA (TOU).

T-259: T-259 currently extends between San Jose, CA (SJC) to Sacramento, CA (SAC). The FAA amends the route from Lake Hughes, CA (LHS) to Ely, NV (ELY).

T-261: T-261 currently extends between Woodside, CA (OSI) and the ALTAM waypoint. The FAA amends the route from Santa Catalina, CA (SXC) to JSTEN waypoint.

T-263: T-263 currently extends between the SUNOL waypoint and Scaggs Island, CA (SGD). The FAA amends the route to begin at Fillmore, CA (FIM) to ELWHA waypoint.

T-298: The FAA establishes T-298 between Oakland, CA (OAK) and Crazy Woman, WY (CZI).

T-329: The FAA establishes T-329 between Morro Bay, CA (MQO) and NACKI, CA waypoint.

T-331: The FAA establishes T-331 between NTELL, CA waypoint and FONIA, ND FIX.

T-333: The FAA establishes T-333 between KLIDE, CA fix and TIPRE, CA waypoint.

All radials in the regulatory text route descriptions below are stated in True degrees.

Jet routes are published in paragraph 2004, VOR Federal airways are published in paragraph 6010(a), United States Area Navigation Routes (T-Routes) are published in paragraph 6011, respectively, of FAA Order 7400.11A dated August 3, 2016, and effective September 15, 2016, which is incorporated by reference in 14 CFR 71.1. The Jet routes, VOR Federal airways and United States Area Navigation Routes (T-Routes) listed in this document will be subsequently published in the Order.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of modifying three jet routes and three VOR Federal airways, removing two VOR Federal Airway routes, and establishing four and modifying four low altitude Area Navigation (RNAV) routes (T-routes) qualifies for categorical exclusion under the National Environmental Policy Act and its implementing regulations at 40 CFR part 1500, and in accordance with FAA Order 1050.1F—Environmental Impacts: Policies and Procedures, Paragraph 5-6.5a, which categorically excludes from further environmental impact review rulemaking actions that designate or modify classes of airspace areas, airways, routes, and reporting points (see 14 CFR part 71, Designation of Class A, B, C, D, and E Airspace Areas; Air Traffic Service Routes; and Reporting Points). This action is not expected to cause any potentially significant environmental impacts. In accordance with FAA Order 1050.1F, paragraph 5-2 regarding Extraordinary Circumstances, this action has been reviewed for factors and circumstances in which a normally categorically excluded action may have a significant environmental impact requiring further analysis, and it is determined that no extraordinary circumstances exist that warrant preparation of an environmental assessment.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11A, Airspace Designations and Reporting Points, dated August 3, 2016 and effective September 15, 2016, is amended as follows:

Paragraph 2004 Jet Routes.

J-58 [Amended]

From Coaldale, NV; Wilson Creek, NV; Milford, UT; Rattlesnake, NM; Fort Union, NM; Panhandle, TX; Wichita Falls, TX; Ranger, TX; Alexandria, LA; to Harvey, LA.

* * * * *

J-80 [Amended]

From Coaldale, NV; Wilson Creek, NV; Milford, UT; Grand Junction, CO; Red Table, CO; Falcon, CO; Goodland, KS; Hill City, KS; Kansas City, MO; Spinner, IL; Brickyard, IN; to Bellaire, OH.

* * * * *

J-94 [Amended]

From Mustang, NV; Lovelock, NV; Battle Mountain, NV; Lucin, UT; Rock Springs, WY; Scottsbluff, NE; O'Neill, NE; Fort Dodge, IA; Dubuque, IA; Northbrook, IL; Pullman, MI; to Flint, MI.

* * * * *

Paragraph 6010 Domestic VOR Federal Airways.

V-87 [Amended]

From Panoche, CA; INT Panoche 245° and Salinas, CA, 100° radials; Salinas; INT Salinas 310° and Woodside, CA, 158° radials; Woodside; San Francisco, CA; INT San Francisco 359° and Scaggs Island, CA, 182° radials; to Scaggs Island, CA.

* * * * *

V-109 [Removed]

* * * * *

V-113 [Amended]

From Morro Bay, CA; Paso Robles, CA; Priest, CA; to Panoche, CA. From Linden, CA; INT Linden 046° and Mustang, NV, 208° radials; Mustang; 42 miles, 24 miles, 115 MSL, 95 MSL, Sod House, NV; 67 miles, 95 MSL, 85 MSL, Rome, OR; 61 miles, 85 MSL, Boise, ID; Salmon, ID; Coppertown, MT; Helena, MT; to Lewistown, MT.

* * * * *

V-195 [Amended]

From Oakland, CA; INT Oakland 004° and Williams, CA, 191° radials; Williams; INT Williams 002° and Red Bluff, CA, 158° radials; Red Bluff; to Fortuna, CA.

* * * * *

V-585 [Removed]

* * * * *

Paragraph 6011 United States Area Navigation Routes.

T-257 Ventura, CA (VTU) to Tatoosh, WA (TOU) [Amended]
Ventura, CA (VTU) | VOR/DME | (Lat. 34°06′54.21″ N., long. 119°02′58.17″ W.)
San Marcus, CA (RZS) | VORTAC | (Lat. 34°30′34.32″ N., long. 119°46′15.57″ W.)
Morro Bay, CA (MQO) | VORTAC | (Lat. 35°15′08.12″ N., long. 120°45′34.44″ W.)
BLANC, CA | FIX | (Lat. 35°37′53.19″ N., long. 121°21′23.04″ W.)
CAATE, CA | WP | (Lat. 36°46′32.29″ N., long. 122°04′09.57″ W.)
CHAWZ, CA | WP | (Lat. 37°06′48.59″ N., long. 122°21′09.58″ W.)
PORTE, CA | FIX | (Lat. 37°29′23.23″ N., long. 122°28′28.48″ W.)
THHEO, CA | WP | (Lat. 37°44′54.55″ N., long. 122°36′54.79″ W.)
JAMIN, CA | WP | (Lat. 37°51′16.99″ N., long. 122°40′12.05″ W.)
Point Reyes, CA (PYE) | VORTAC | (Lat. 38°04′47.12″ N., long. 122°52′04.18″ W.)
FREES, CA | FIX | (Lat. 38°23′38.47″ N., long. 122°55′33.24″ W.)
NACKI, CA | WP | (Lat. 38°43′47.73″ N., long. 123°05′52.93″ W.)
Mendocino, CA (ENI) | VORTAC | (Lat. 39°03′11.58″ N., long. 123°16′27.58″ W.)
FLUEN, CA | FIX | (Lat. 39°32′47.92″ N., long. 123°33′42.75″ W.)
PLYAT, CA | FIX | (Lat. 40°20′20.90″ N., long. 123°41′35.88″ W.)
CCHUK, CA | WP | (Lat. 40°31′42.18″ N., long. 124°04′16.08″ W.)
SCUPY, CA | WP | (Lat. 40°55′23.94″ N., long. 124°18′09.85″ W.)
OLJEK, CA | FIX | (Lat. 41°28′30.66″ N., long. 124°14′20.68″ W.)
CIGCA, CA | WP | (Lat. 41°36′39.60″ N., long. 124°17′27.58″ W.)
FURNS, CA | WP | (Lat. 41°55′15.86″ N., long. 124°26′09.40″ W.)
MITUE, OR | FIX | (Lat. 43°18′49.00″ N., long. 124°30′22.74″ W.)
JANAS, OR | FIX | (Lat. 44°17′33.63″ N., long. 124°05′14.25″ W.)
Newport, OR (ONP) | VORTAC | (Lat. 44°34′31.26″ N., long. 124°03′38.14″ W.)
CUTEL, OR | FIX | (Lat. 44°54′27.50″ N., long. 124°01′25.30″ W.)
ILWAC, WA | FIX | (Lat. 46°19′46.62″ N., long. 124°10′49.49″ W.)
ZEDAT, WA | FIX | (Lat. 46°35′50.64″ N., long. 124°10′01.14″ W.)
WAVLU, WA | FIX | (Lat. 46°50′00.90″ N., long. 124°06′35.70″ W.)
Hoquiam, WA (HQM) | VORTAC | (Lat. 46°56′49.35″ N., long. 124°08′57.37″ W.)
COPLS, WA | WP | (Lat. 47°06′46.78″ N., long. 124°07′40.80″ W.)
WAPTO, WA | FIX | (Lat. 47°28′19.54″ N., long. 124°13′50.38″ W.)
OZETT, WA | WP | (Lat. 48°03′07.00″ N., long. 124°35′54.42″ W.)
Tatoosh, WA (TOU) | VORTAC | (Lat. 48°17′59.64″ N., long. 124°37′37.36″ W.)
* * * * * * *
T-259 Lake Hughes, CA (LHS) to Ely, NV (ELY) [Amended]
Lake Hughes, CA (LHS) | VORTAC | (Lat. 34°40′58.70″ N., long. 118°34′36.98″ W.)
Shafter, CA (EHF) | VORTAC | (Lat. 35°29′04.40″ N., long. 119°05′50.27″ W.)
Avenal, CA (AVE) | VOR/DME | (Lat. 35°38′49.11″ N., long. 119°58′42.98″ W.)
MBARI, CA | WP | (Lat. 36°01′37.09″ N., long. 120°34′38.27″ W.)
LKHRN, CA | WP | (Lat. 36°05′59.82″ N., long. 120°45′22.53″ W.)
Salinas, CA (SNS) | VORTAC | (Lat. 36°39′49.81″ N., long. 121°36′11.47″ W.)
CAATE, CA | WP | (Lat. 36°46′32.29″ N., long. 122°04′09.57″ W.)
SANTY, CA | FIX | (Lat. 36°58′45.26″ N., long. 122°04′23.07″ W.)
SAPID, CA | FIX | (Lat. 37°11′28.73″ N., long. 122°10′47.00″ W.)
CRTER, CA | WP | (Lat. 37°27′09.35″ N., long. 121°50′28.62″ W.)
MOVDD, CA | FIX | (Lat. 37°39′40.88″ N., long. 121°26′53.53″ W.)
OXJEF, CA | WP | (Lat. 37°46′11.40″ N., long. 121°02′03.31″ W.)
SAAGO, CA | WP | (Lat. 37°51′19.01″ N., long. 120°05′09.54″ W.)
BNAKI, CA | WP | (Lat. 37°53′25.61″ N., long. 119°40′02.43″ W.)
WEXIM, CA | WP | (Lat. 37°59′12.54″ N., long. 119°14′15.57″ W.)
NIKOL, CA | FIX | (Lat. 37°58′02.88″ N., long. 118°40′57.19″ W.)
DAYMN, NV | WP | (Lat. 38°59′19.00″ N., long. 115°51′00.00″ W.)
Ely, NV (ELY) | VOR/DME | (Lat. 39°17′53.25″ N., long. 114°50′53.90″ W.)
* * * * * * *
T-261 Santa Catalina, CA (SXC), to JSTEN, WA [Amended]
Santa Catalina, CA (SXC) | VORTAC | (Lat. 33°22′30.20″ N., long. 118°25′11.68″ W.)
Gaviota, CA (GVO) | VORTAC | (Lat. 34°31′52.75″ N., long. 120°05′27.92″ W.)
Morro Bay, CA (MQO) | VORTAC | (Lat. 35°15′08.12″ N., long. 120°45′34.44″ W.)
CLMNS, CA | FIX | (Lat. 35°24′45.26″ N., long. 121°09′45.91″ W.)
HRRNG, CA | WP | (Lat. 35°37′39.24″ N., long. 121°25′19.36″ W.)
HMPBK, CA | WP | (Lat. 36°03′16.11″ N., long. 121°45′05.32″ W.)
WOZZZ, CA | WP | (Lat. 36°13′59.12″ N., long. 121°48′24.46″ W.)
Salinas, CA (SNS) | VORTAC | (Lat. 36°39′49.81″ N., long. 121°36′11.47″ W.)
WINDY, CA | FIX | (Lat. 37°17′36.96″ N., long. 121°11′00.75″ W.)
MOVDD, CA | FIX | (Lat. 37°39′40.88″ N., long. 121°26′53.53″ W.)
GIFME, CA | WP | (Lat. 38°12′02.39″ N., long. 121°35′11.42″ W.)
GRIDD, CA | FIX | (Lat. 39°19′38.69″ N., long. 121°50′07.50″ W.)
GONGS, CA | FIX | (Lat. 39°44′36.22″ N., long. 122°03′01.33″ W.)
HOMAN, CA | FIX | (Lat. 40°24′17.88″ N., long. 122°07′44.68″ W.)
GARSA, CA | FIX | (Lat. 40°42′05.61″ N., long. 122°01′26.87″ W.)
CCAPS, CA | WP | (Lat. 41°28′40.20″ N., long. 121°48′51.96″ W.)
MUREX, CA | FIX | (Lat. 41°52′11.03″ N., long. 121°44′02.93″ W.)
MIXUP, OR | FIX | (Lat. 42°31′07.79″ N., long. 121°59′49.66″ W.)
Deschutes, OR (DSD) | VORTAC | (Lat. 44°15′09.95″ N., long. 121°18′12.69″ W.)
CUPRI, OR | FIX | (Lat. 44°37′03.76″ N., long. 121°15′13.89″ W.)
SUPOC, OR | WP | (Lat. 44°54′05.94″ N., long. 120°58′53.25″ W.)
KUKTE, OR | FIX | (Lat. 45°19′55.95″ N., long. 121°09′17.29″ W.)
SUNSN, WA | WP | (Lat. 45°57′09.59″ N., long. 120°38′38.03″ W.)
MUDLE, WA | FIX | (Lat. 46°23′38.69″ N., long. 120°34′53.38″ W.)
Yakima, WA (YKM) | VORTAC | (Lat. 46°34′12.87″ N., long. 120°26′40.69″ W.)
SELAH, WA | FIX | (Lat. 46°42′03.01″ N., long. 120°32′59.48″ W.)
GEBTE, WA | FIX | (Lat. 46°51′39.01″ N., long. 120°30′17.18″ W.)
QUINT, WA | FIX | (Lat. 47°12′50.29″ N., long. 119°54′31.59″ W.)
PAWYO, WA | WP | (Lat. 48°10′04.08″ N., long. 119°29′30.00″ W.)
HVARD, WA | WP | (Lat. 48°17′32.75″ N., long. 119°30′16.09″ W.)
SOFFE, WA | WP | (Lat. 48°41′41.31″ N., long. 119°29′21.93″ W.)
JSTEN, WA | WP | (Lat. 48°57′50.34″ N., long. 119°26′15.47″ W.)
* * * * * * *
T-263 Fillmore, CA (FIM) to ELWHA, WA [Amended]
Fillmore, CA (FIM) | VORTAC | (Lat. 34°21′24.10″ N., long. 118°52′52.65″ W.)
Avenal, CA (AVE) | VOR/DME | (Lat. 35°38′49.11″ N., long. 119°58′42.98″ W.)
Panoche, CA (PXN) | VORTAC | (Lat. 36°42′55.65″ N., long. 120°46′43.26″ W.)
WINDY, CA | FIX | (Lat. 37°17′36.96″ N., long. 121°11′00.75″ W.)
MOVDD, CA | FIX | (Lat. 37°39′40.88″ N., long. 121°26′53.53″ W.)
RBLEW, CA | WP | (Lat. 37°53′49.80″ N., long. 121°30′30.31″ W.)
PITTS, CA | FIX | (Lat. 38°02′59.59″ N., long. 121°53′28.90″ W.)
Scaggs Island, CA (SGD) | VORTAC | (Lat. 38°10′45.70″ N., long. 122°22′23.35″ W.)
POPES, CA | FIX | (Lat. 38°29′09.41″ N., long. 122°20′45.16″ W.)
DIBLE, CA | FIX | (Lat. 40°13′22.13″ N., long. 122°17′43.51″ W.)
KENDL, CA | FIX | (Lat. 40°27′20.50″ N., long. 122°23′04.50″ W.)
FOLDS, CA | FIX | (Lat. 40°44′16.56″ N., long. 122°30′10.69″ W.)
HOMEG, CA | WP | (Lat. 41°20′09.00″ N., long. 122°51′05.00″ W.)
ZUNAS, CA | FIX | (Lat. 41°51′34.17″ N., long. 122°50′54.37″ W.)
TALEM, OR | FIX | (Lat. 42°08′49.70″ N., long. 122°52′41.50″ W.)
OREGN, OR | WP | (Lat. 42°50′22.63″ N., long. 123°31′55.53″ W.)
EROWY, OR | WP | (Lat. 43°03′20.67″ N., long. 123°30′02.52″ W.)
NOTTI, OR | FIX | (Lat. 44°03′23.13″ N., long. 123°27′29.76″ W.)
Corvallis, OR (CVO) | VOR/DME | (Lat. 44°29′58.45″ N., long. 123°17′37.21″ W.)
ARTTY, OR | FIX | (Lat. 45°00′00.00″ N., long. 123°04′28.96″ W.)
Newberg, OR (UBG) | VOR/DME | (Lat. 45°21′11.62″ N., long. 122°58′41.37″ W.)
LOATH, OR | FIX | (Lat. 46°00′41.95″ N., long. 123°03′39.04″ W.)
WINLO, WA | FIX | (Lat. 46°27′27.26″ N., long. 123°06′03.90″ W.)
ULESS, WA | FIX | (Lat. 47°07′54.58″ N., long. 123°28′12.15″ W.)
ARRIE, WA | FIX | (Lat. 47°52′47.61″ N., long. 123°28′33.00″ W.)
ELWHA, WA | WP | (Lat. 48°08′55.11″ N., long. 123°40′15.06″ W.)
* * * * * * *
T-298 Oakland, CA (OAK) to Crazy Woman, WY (CZI) [New]
Oakland, CA (OAK) | VORTAC | (Lat. 37°43′33.32″ N., long. 122°13′24.91″ W.)
ALTAM, CA | FIX | (Lat. 37°48′43.82″ N., long. 121°44′49.54″ W.)
ORANG, CA | FIX | (Lat. 37°59′00.43″ N., long. 121°15′50.95″ W.)
ELKHN, CA | WP | (Lat. 38°09′24.47″ N., long. 120°22′23.46″ W.)
NIKOL, CA | FIX | (Lat. 37°58′02.88″ N., long. 118°40′57.19″ W.)
Coaldale, NV (OAL) | VORTAC | (Lat. 38°00′11.74″ N., long. 117°46′13.61″ W.)
KATTS, NV | WP | (Lat. 38°20′00.00″ N., long. 116°20′00.00″ W.)
KITTN, NV | WP | (Lat. 38°19′44.23″ N., long. 114°57′41.27″ W.)
Wilson Creek, NV (ILC) | VORTAC | (Lat. 38°15′00.69″ N., long. 114°23′39.22″ W.)
Milford, UT, (MLF) | VORTAC | (Lat. 38°21′37.28″ N., long. 113°00′47.64″ W.)
DETAN, UT | FIX | (Lat. 38°22′22.30″ N., long. 112°37′46.69″ W.)
EBOVE, UT | WP | (Lat. 39°02′44.32″ N., long. 111°46′24.18″ W.)
Carbon, UT (PUC) | VOR/DME | (Lat. 39°36′11.49″ N., long. 110°45′12.70″ W.)
Myton, UT (MTU) | VOR/DME | (Lat. 40°08′56.74″ N., long. 110°07′37.30″ W.)
Rock Springs, WY (OCS) | VOR/DME | (Lat. 41°35′24.76″ N., long. 109°00′55.18″ W.)
DORTN, WY | WP | (Lat. 43°02′36.63″ N., long. 107°13′03.27″ W.)
Crazy Woman, WY (CZI) | VOR/DME | (Lat. 43°59′59.02″ N., long. 106°26′08.63″ W.)
* * * * * * *
T-329 Morro Bay, CA (MQO) to NACKI, CA [New]
Morro Bay, CA (MQO) | VORTAC | (Lat. 35°15′08.12″ N., long. 120°45′34.44″ W.)
Paso Robles, CA (PRB) | VORTAC | (Lat. 35°40′20.87″ N., long. 120°37′37.59″ W.)
LKHRN, CA | WP | (Lat. 36°05′59.82″ N., long. 120°45′22.53″ W.)
Panoche, CA (PXN) | VORTAC | (Lat. 36°42′55.65″ N., long. 120°46′43.26″ W.)
MKNNA, CA | WP | (Lat. 37°04′23.41″ N., long. 120°50′22.26″ W.)
OXJEF, CA | WP | (Lat. 37°46′11.40″ N., long. 121°02′03.31″ W.)
TIPRE, CA | WP | (Lat. 38°12′21.00″ N., long. 121°02′09.00″ W.)
HNNRY, CA | WP | (Lat. 38°23′27.61″ N., long. 121°37′43.50″ W.)
ROWWN, CA | WP | (Lat. 38°24′55.86″ N., long. 121°47′00.05″ W.)
RAGGS, CA | FIX | (Lat. 38°28′34.94″ N., long. 122°09′24.65″ W.)
POPES, CA | FIX | (Lat. 38°29′09.41″ N., long. 122°20′45.16″ W.)
NACKI, CA | WP | (Lat. 38°43′47.73″ N., long. 123°05′52.93″ W.)
* * * * * * *
T-331 NTELL, CA to FONIA, ND [New]
NTELL, CA | WP | (Lat. 36°53′58.99″ N., long. 119°53′22.21″ W.)
KARNN, CA | FIX | (Lat. 37°09′03.79″ N., long. 121°16′45.22″ W.)
VINCO, CA | FIX | (Lat. 37°22′35.11″ N., long. 121°42′59.52″ W.)
NORCL, CA | WP | (Lat. 37°31′02.66″ N., long. 121°43′10.60″ W.)
MOVDD, CA | FIX | (Lat. 37°39′40.88″ N., long. 121°26′53.53″ W.)
EVETT, CA | WP | (Lat. 38°00′36.11″ N., long. 121°07′48.14″ W.)
TIPRE, CA | WP | (Lat. 38°12′21.00″ N., long. 121°02′09.00″ W.)
ESSOH, CA | WP | (Lat. 38°43′11.37″ N., long. 120°38′10.87″ W.)
Squaw Valley, CA (SWR) | VOR/DME | (Lat. 39°10′49.16″ N., long. 120°16′10.60″ W.)
TRUCK, CA | FIX | (Lat. 39°26′15.67″ N., long. 120°09′42.48″ W.)
Mustang, NV (FMG) | VORTAC | (Lat. 39°31′52.55″ N., long. 119°39′21.86″ W.)
HIXUP, NV | WP | (Lat. 39°58′08.32″ N., long. 118°51′52.25″ W.)
Lovelock, NV (LLC) | VORTAC | (Lat. 40°07′30.95″ N., long. 118°34′39.34″ W.)
CUTVA, NV | FIX | (Lat. 40°23′27.16″ N., long. 117°35′59.79″ W.)
Battle Mountain, NV (BAM) | VORTAC | (Lat. 40°34′08.69″ N., long. 116°55′20.12″ W.)
PARZZ, NV | WP | (Lat. 41°36′14.64″ N., long. 115°02′09.69″ W.)
TULIE, ID | WP | (Lat. 42°37′58.49″ N., long. 113°06′44.54″ W.)
AMFAL, ID | WP | (Lat. 42°45′56.67″ N., long. 112°50′04.64″ W.)
Pocatello, ID (PIH) | VOR/DME | (Lat. 42°52′13.38″ N., long. 112°39′08.05″ W.)
VIPUC, ID | WP | (Lat. 43°21′09.64″ N., long. 112°14′44.08″ W.)
Idaho Falls, ID (IDA) | VOR/DME | (Lat. 43°31′08.42″ N., long. 112°03′50.10″ W.)
SABAT, ID | FIX | (Lat. 44°00′59.71″ N., long. 111°39′55.04″ W.)
WAHNZ, ID | WP | (Lat. 44°17′15.61″ N., long. 111°13′32.75″ W.)
SPECT, MT | WP | (Lat. 45°20′00.37″ N., long. 109°27′47.95″ W.)
Billings, MT (BIL) | VORTAC | (Lat. 45°48′30.81″ N., long. 108°37′28.73″ W.)
TRUED, MT | WP | (Lat. 46°08′27.38″ N., long. 107°54′36.55″ W.)
EXADE, MT | FIX | (Lat. 47°35′56.78″ N., long. 104°32′40.61″ W.)
JEKOK, MT | WP | (Lat. 47°59′31.05″ N., long. 103°27′17.51″ W.)
FONIA, ND | FIX | (Lat. 48°15′35.07″ N., long. 103°10′37.54″ W.)
* * * * * * *
T-333 KLIDE, CA to TIPRE, CA [New]
KLIDE, CA | FIX | (Lat. 37°09′51.03″ N., long. 121°42′46.98″ W.)
BORED, CA | FIX | (Lat. 37°18′34.16″ N., long. 121°27′48.06″ W.)
SMONE, CA | WP | (Lat. 37°32′10.45″ N., long. 121°21′30.65″ W.)
TIPRE, CA | WP | (Lat. 38°12′21.00″ N., long. 121°02′09.00″ W.)

Issued in Washington, DC, on April 12, 2017.
Gemechu Gelgelu,
Acting Manager, Airspace Policy Group.

[FR Doc. 2017-07784 Filed 4-19-17; 8:45 am]

BILLING CODE 4910-13-P